DEPARTMENT OF LABOR

Employment and Training Administration

[TA-W-63,207]

Automated Equipment, Inc., Paris, TN; Notice of Termination of Investigation

Pursuant to Section 221 of the Trade Act of 1974, as amended, an investigation was initiated on April 17, 2008 in response to a petition filed by a company official on behalf of workers at Automated Equipment, Inc., Paris, Tennessee.

The petitioner has requested that the petition be withdrawn. Consequently, the investigation has been terminated.

Signed at Washington, DC, this 15th day of May, 2008.
Linda G. Poole,
Certifying Officer, Division of Trade Adjustment Assistance.

[FR Doc. E8-11377 Filed 5-21-08; 8:45 am]

BILLING CODE 4510-FN-P